DEPARTMENT OF DEFENSE

Office of the Secretary

[Docket ID: DoD-2014-HA-0088]

Proposed Collection; Comment Request

AGENCY: Office of the Assistant Secretary of Defense for Health Affairs, DoD.

ACTION: Notice.

SUMMARY: In compliance with the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 14, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the TRICARE Dental Care Office, Health Agency (DHA), Rm 3M451, ATTN: COL Colleen C. Shull, Falls Church, VA 22042 or call (703) 681-9517, DSN 761.

SUPPLEMENTARY INFORMATION:

Title; Associated Form; and OMB Number: TRICARE Dental Program (TDP) Dentist's Claim Form CONUS and TRICARE Dental Program (TDP) Dentist's Claim Form OCONUS; OMB Control Number 0720-0035.

Needs and Uses: The TRICARE Dental Program (TDP) Claim Form(s). CONUS/OCONUS are required to gather information to make payment for legitimate dental claims and to assist in contractor surveillance and program integrity investigations and to audit financial transactions where the Department of Defense has a financial stake. The information from the claim form is also used to provide important cost-share explanations to the beneficiary.

Affected Public: Business or other for profit.

Annual Burden Hours: 1,006,415.

Number of Respondents: 64,930.

Responses per Respondent: 62.

Annual Responses: 4,025,660.

Average Burden per Response: 15 Minutes.

Frequency: On occasion.

The Defense Health Agency (DHA) under the authority of the Office of the Assistant Secretary of Defense (Health Affairs)/Office of the Deputy Assistant Secretary of Defense has responsibility for management of the TRICARE Dental Program (TDP) as established in Title 10, United States Code, Section 1076a. The information collected to make payment for covered dental procedures provided by a licensed dentist to an eligible beneficiary can be sent to the TDP contractor electronically, fax or mail. Approximately 35% of all TDP network dental claims are filed electronically. Dental offices and patients can download the TDP claim form from the contractor's Web site.

For non-network dentists, to include those in overseas locations, the use of the TDP Claim Form is highly encouraged. However, dental claims will be paid if all the required information is provided on a similar claim form.

Dated: October 6, 2015.
Aaron Siegel,
Alternate OSD Federal Register Liaison Officer, Department of Defense.

[FR Doc. 2015-25911 Filed 10-9-15; 8:45 am]

BILLING CODE 5001-06-P